DEPARTMENT OF AGRICULTURE

Animal and Plant Health Inspection Service

[Docket No. APHIS-2018-0004]

Importation of Fresh Jujube Fruit From China Into the Continental United States

AGENCY: Animal and Plant Health Inspection Service, USDA.

ACTION: Notice of availability.

SUMMARY: We are advising the public that we have prepared a pest risk analysis that evaluates the risks associated with the importation of fresh jujube fruit from China into the continental United States. Based on the analysis, we have determined that the application of one or more phytosanitary measures will be sufficient to mitigate the risks of introducing or disseminating plant pests or noxious weeds via the importation of fresh jujube fruit from China. We are making the pest risk analysis available to the public for review and comment.

DATES: We will consider all comments that we receive on or before May 24, 2019.

ADDRESSES: You may submit comments by either of the following methods:

• Federal eRulemaking Portal: Go to http://www.regulations.gov/#!docketDetail;D=APHIS-2018-0004.

• Postal Mail/Commercial Delivery: Send your comment to Docket No. APHIS-2018-0004, Regulatory Analysis and Development, PPD, APHIS, Station 3A-03.8, 4700 River Road, Unit 118, Riverdale, MD 20737-1238.

Supporting documents and any comments we receive on this docket may be viewed at http://www.regulations.gov/#!docketDetail;D=APHIS-2018-0004 or in our reading room, which is located in Room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Mr. Tony Roman, Senior Regulatory Policy Specialist, RCC, IRM, PHP, PPQ, APHIS, 4700 River Road, Unit 133, Riverdale, MD 20737-1236; (301) 851-2242.

SUPPLEMENTARY INFORMATION:

Background

Under the regulations in “Subpart L—Fruits and Vegetables” (7 CFR 319.56-1 through 319.56-12, referred to below as the regulations) the Animal and Plant Health Inspection Service (APHIS) prohibits or restricts the importation of fruits and vegetables into the United States from certain parts of the world to prevent plant pests from being introduced into or disseminated within the United States.

Section 319.56-4 contains a performance-based process for approving the importation of certain fruits and vegetables that, based on the findings of a pest risk analysis, can safely be imported into the United States subject to one or more of the five designated phytosanitary measures listed in paragraph (b) of that section.

APHIS received a request from the national plant protection organization (NPPO) of China to allow the importation of fresh jujube fruit (Ziziphus jujuba Miller (Rhamnaceae)) from China into the continental United States. As part of our evaluation of China's request, we have prepared a pest risk assessment (PRA) to identify the pests of quarantine significance that could follow the pathway of the importation of fresh jujube fruit into the continental United States from China. Based on the PRA, a risk management document (RMD) was prepared to identify phytosanitary measures that could be applied to the fresh jujube fruit to mitigate the pest risk.

We have concluded that fresh jujube fruit can be safely imported from China into the continental United States using one or more of the five designated phytosanitary measures listed in § 319.56-4(b). The NPPO of China would have to enter into an operational workplan with APHIS that spells out the daily procedures the NPPO of China will take to implement the measures identified in the RMD. These measures are summarized below:

• Importation in commercial consignments only.

• Registration of places of production and packinghouses with the NPPO of China.

• Limiting registered places of production to locations north of the 33rd parallel (APHIS considers China to be free of Bactrocera spp. fruit flies above this parallel), or alternatively, requiring phytosanitary treatment for Bactrocera correcta, B. cucurbitae, and B. dorsalis in accordance with 7 CFR part 305, which contains APHIS' phytosanitary treatment regulations.¹

¹ Irradiation at 400 Gy is currently the only approved phytosanitary treatment for these three species of fruit flies. Cold treatment is currently being evaluated as an alternate treatment.

• The NPPO maintaining a national fruit fly monitoring program.

• Grove sanitation and trapping for fruit flies in places of production that are located in a province in which Carpomyia vesuviana (Ber fruit fly) is known to be present.

• Recordkeeping of fruit fly detections in registered places of production.

• Pre-export inspection by the NPPO of China and issuance of a phytosanitary certificate.

• Port of entry inspections.

• Importation under a permit issued by APHIS.

Each of the pest risk mitigation measures that would be required, along with evidence of their efficacy in removing pests of concern from the pathway, are described in detail in the RMD.

Therefore, in accordance with § 319.56-4(c)(3), we are announcing the availability of our PRA and RMD for public review and comment. Those documents, as well as a description of the economic considerations associated with the importation of fresh jujube fruit from China, may be viewed on the Regulations.gov website or in our reading room (see ADDRESSES above for a link to Regulations.gov and information on the location and hours of the reading room). You may request paper copies of these documents by calling or writing to the person listed under FOR FURTHER INFORMATION CONTACT. Please refer to the subject of the analysis you wish to review when requesting copies.

After reviewing any comments we receive, we will announce our decision regarding the import status of fresh jujube fruit from China in a subsequent notice. If the overall conclusions of our analysis and the Administrator's determination of risk remain unchanged following our consideration of the comments, then we will authorize the importation of fresh jujube fruit from China into the continental United States subject to the requirements specified in the RMD.

Authority: 7 U.S.C. 1633, 7701-7772, and 7781-7786; 21 U.S.C. 136 and 136a; 7 CFR 2.22, 2.80, and 371.3.

Done in Washington, DC, March 19, 2019.
Kevin Shea,
Administrator, Animal and Plant Health Inspection Service.

[FR Doc. 2019-05566 Filed 3-22-19; 8:45 am]

BILLING CODE 3410-34-P